DEPARTMENT OF JUSTICE

[AAG/A Order No. 004-2005]

Privacy Act of 1974; System of Records

Pursuant to the Privacy Act of 1974 (5 U.S.C. 552a), the Department of Justice, Civil Rights Division (CRT), proposes to modify the following system of records previously modified and published in full text in the Federal Register on August 11, 2003 (68 Fed. Reg. 47611): Central Civil Rights Division Index File and Associated Records, JUSTICE/CRT-001.

CRT is adding one new routine use to this system of records. The records in this system of records are maintained by the Civil Rights Division in order to carry out its responsibilities to investigate and enforce federal statutes affecting civil rights. This routine use allows the disclosure of information explaining the Department's decision to close a criminal matter to the local community or public when the incident investigated has become a matter of public knowledge, the investigation is closed, and the Assistant Attorney General, Civil Rights Division, personally determines that, because there is a reasonable potential for civil unrest or a severe loss of confidence by the public in the investigative process, the disclosure of such information is appropriate. The release of information in the new routine use is compatible with the purpose of this system as use of the information is necessary and proper to carry out legitimate government purposes.

In accordance with 5 U.S.C. 552a(e)(4) and (11), the public is given a 30-day period in which to comment on the proposed new routine use disclosure. The Office of Management and Budget (OMB), which has oversight responsibility of the Act, requires a 40-day period in which to conclude its review of the system. Therefore, please submit any comments by August 29, 2005. The public, OMB and the Congress are invited to submit comments to: Mary Cahill, Management and Planning Staff, Justice Management Division, Department of Justice, Room 1400 National Place Building, NW., Washington, DC 20530. If no comments are received, the proposal will be implemented without further notice in the Federal Register.

In accordance with 5 U.S.C. 552a(r), the Department has provided a report to OMB and Congress on the proposed new routine use.

Dated: July 20, 2005.
Paul R. Corts,
Assistant Attorney General for Administration.

JUSTICE/CRT-001

SYSTEM NAME:

Central Civil Rights Division Index File and Associated Records, CRT-001.

* * * * *

ROUTINE USES OF RECORDS MAINTAINED IN THE SYSTEM, INCLUDING CATEGORIES OF USERS AND THE PURPOSES OF SUCH USES:

* * * * *

* * * [Add the new routine use (16) to read as follows.]

(16) To the local community or public when the incident investigated has become a matter of public knowledge, the investigation is closed, and the Assistant Attorney General, Civil Rights Division, personally determines that, because there is a reasonable potential for civil unrest or a severe loss of confidence by the public in the investigative process, the disclosure of information explaining the Department's decision to close a criminal matter is appropriate.

* * * * *

[FR Doc. 05-14944 Filed 7-28-05; 8:45 am]

BILLING CODE 4410-13-P